DEPARTMENT OF TRANSPORTATION

Federal Aviation Administration

Development and Implementation of Corrosion Prevention and Control Program

AGENCY: Federal Aviation Administration (FAA), DOT.

ACTION: Notice of availability and request for comments.

SUMMARY: This notice announces the availability of and request for comments on proposed AC XX-XX, which provides guidance pertaining to the development and implementation of the Corrosion Prevention and Control Program.

DATES: Comments must be received on or before April 1, 2003.

ADDRESSES: Send all comments on the proposed AC to: Frederick Sobeck, AFS-304, Aging Airplane Program Manager, Flight Standards Service, Federal Aviation Administration, 800 Independence Ave. SW., Washington, DC 20591; telephone number: (202) 267-7355.

FOR FURTHER INFORMATION CONTACT: Frederick Sobeck, AFS-304, Aging Airplane Program Manager, Flight Standards Service, Federal Aviation Administration, 800 Independence Ave., Washington, DC 20591; telephone number: (202) 267-7355.

SUPPLEMENTARY INFORMATION:

Comments Invited

A copy of the draft AC may be obtained by accessing the FAA's Web page at http://www.faa.gov/avr/arm/nprm.cfm?nav.nprm or at http://faa.gov/avr/afs/acs/ac-idx.htm. Interested parties are invited to submit comments on the proposed AC. Commenters must identify AC XX, and submit comments to the address specified above. The FAA will consider all communications received on or before the closing date for comments before issuing the final AC.

Discussion

A corrosion prevention and control program (CPCP) is a systematic approach to controlling corrosion in the airplane's primary structure. The objective of a CPCP is to limit the material loss due to corrosion to a level necessary to maintain airworthiness. A CPCP consists of a basic corrosion inspection task, task areas, defined corrosion levels, and compliance times (implementation thresholds and repeat intervals). The CPCP also includes procedures to notify the FAA of the findings and data associated with Level 2 and Level 3 corrosion and the actions taken to reduce future findings to Level 1.

In order to operate an airplane under part 121, part 129, or a multiengine airplane in scheduled service under part 135, an operator should include in its maintenance or inspection program an FAA-approved CPCP. An operator may adopt the baseline program provided by the design approval holder or the operator may choose to develop its own CPCP or may be required to if none is available from the design approval holder. In developing its own CPCP, an operator may join with other operators and develop a baseline program similar to a design approval holder developed baseline program for use by all operators in the group. There are two advantages of an operator-developed baseline program.

Issued in Washington, DC, on September 25, 2002.
Louis C. Cusimano,
Acting Director, Flight Standards Service.

[FR Doc. 02-24933 Filed 10-2-02; 8:45 am]

BILLING CODE 4910-13-M